DEPARTMENT OF COMMERCE

Submission for OMB Review; Comment Request

The Department of Commerce has submitted to the Office of Management and Budget (OMB) for clearance the following proposal for collection of information under the emergency provisions of the Paperwork Reduction Act (44 U.S.C. Chapter 35).

Agency: Bureau of Industry and Security (BIS).

Title: Voluntary Self-Disclosure of Antiboycott Violations.

Form Number(s): None.

OMB Approval Number: None.

Type of Request: Emergency submission.

Burden Hours: 1,280.

Number of Respondents: 10.

Average Hours Per Response: Regular companies, 10 hours; and very large companies, 600 hours.

Needs and Uses: To strengthen antiboycott enforcement efforts, BIS is proposing the addition of a new section, “Voluntary Self-Disclosure of Antiboycott Violations,” to the Export Administration Regulations (EAR). The information collection requirements are modeled after those in the existing self-disclosure collection, (1) General; (2) Initial Notification; (3) Narrative Account; (4) Supporting Documentation; (5) Certification; (6) Oral Presentations and (7) Where To Make Voluntary Self-Disclosure. The voluntary self-disclosures allow BIS to conduct investigations of the disclosed incidents faster than would be the case if BIS had to detect the violations without such disclosure.

Affected Public: Business or other for-profit organizations.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by May 4, 2007 to David Rostker, OMB Desk Officer, FAX number (202) 395-7258 or via the Internet at David_Rostker@omb.eop.gov.

Dated: April 4, 2007.
Gwellnar Banks,
Management Analyst, Office of the Chief Information Officer.

[FR Doc. E7-6665 Filed 4-9-07; 8:45 am]

BILLING CODE 3510-DT-P